DEPARTMENT OF LABOR

Employment and Training Administration

[TA-W-39,967]

Bethlehem Steel Corp., Lackawanna Coke Division, Lackawanna, NY; Notice of Negative Determination Regarding Application for Reconsideration

By application of January 23, 2002, the United Steel Workers of America, AFL-CIO-CLC, requested administrative reconsideration of the Department's negative determination regarding eligibility for workers and former workers of the subject firm to apply for Trade Adjustment Assistance (TAA). The denial notice was signed on December 11, 2001 and published in the Federal Register on December 26, 2001 (66 FR 66426).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The TAA petition, filed on behalf of workers at Bethlehem Steel Corporation, Lackawanna Coke Division, New York engaged in the production of blast furnace coke, was denied because the “contributed importantly” group eligibility requirement of section 222(3) of the Trade Act of 1974, as amended, was not met. The “contributed importantly” test is generally demonstrated through a survey of the workers' firm's customers. The Department conducted a survey of the subject company's major customers regarding their purchases of blast furnace coke. The survey revealed that none of the customers purchased imported blast furnace coke during the relevant period. United States aggregate imports of coke and semicoke declined in the January through September 2001 period over the corresponding January through September 2000 period. The investigation further revealed that although Bethlehem Steel Corporation imports blast furnace coke, these imports had no effect on the Lackawanna plant because they went to facilities never supplied by the Lackawanna plant.

The petitioner alleges that increased imports of steel had a direct effect on coke consumption, thus impacting the Lackawanna coke plant. The petitioner further states that “the long term trends of higher coke and steel imports resulted in the shutdown of Lackawanna.”

Steel imports into the United States is not relevant to the TAA investigation that was filed on behalf of workers producing blast furnace coke. The product imported must be “like or directly” competitive with what the subject firm plant produced and the imports must “contribute importantly” to the layoffs at the subject plant to meet the eligibility requirements for adjustment assistance under section 223 of the Trade Act of 1974. Further examination of the facts developed in the initial investigation show that company imports, customer imports and aggregate U.S. imports of blast furnace coke did not “contribute importantly” to the layoffs at the subject plant.

Conclusion

After review of the application and investigative findings, I conclude that there has been no error or misinterpretation of the law or of the facts which would justify reconsideration of the Department of Labor's prior decisions. Accordingly, the application is denied.

Signed at Washington, DC, this 24th day of April, 2002.
Edward A. Tomchick,
Director, Division of Trade Adjustment Assistance.

[FR Doc. 02-13540 Filed 5-29-02; 8:45 am]

BILLING CODE 4510-30-P